DEPARTMENT OF COMMERCE

Foreign-Trade Zones Board

[Docket 21-2001]

Foreign-Trade Zone 177—Evansville, IN; Application for Subzone Status; Toyota Motor Manufacturing, Indiana, Inc., Plant (Motor Vehicles), Princeton, IN

An application has been submitted to the Foreign-Trade Zones Board (the Board) by the Indiana Port Commission, grantee of FTZ 177, requesting special-purpose subzone status for the motor vehicle manufacturing plant of Toyota Motor Manufacturing, Indiana, Inc. (TMMI)(a subsidiary of Toyota Motor Manufacturing North America, Inc.), located in Princeton, Indiana. The application was submitted pursuant to the provisions of the Foreign-Trade Zones Act, as amended (19 U.S.C. 81a-81u), and the regulations of the Board (15 CFR part 400). It was formally filed on May 25, 2001.

The TMMI plant (1,160 acres/1.66 million sq.ft.) is located at 4000 Tulip Tree Drive, Princeton (Gibson County), Indiana, some 25 miles north of Evansville. The facility is used to produce light-duty passenger vehicles (pickup trucks, sport utility vehicles, minivans) for export and the domestic market. At full capacity, the facility (2,500 employees) will produce up to approximately 360,000 vehicles annually. Components purchased from abroad (approximately 43% of material value) include: engines and parts of engines, connecting rods, cylinder heads, brackets, sensors, valves, engine management systems, body parts, fasteners, exhaust systems, catalytic converters, speedometers and parts, parts of suspensions, hub units, CV joints, parts of steering systems, brake hoses and cables, airbags, half shafts, transmissions and parts of transmissions, transfer cases, differentials, bearings and bearing housings, flywheels/pulleys, wiring harnesses, transformers, lighting equipment, mirrors, starters, gaskets, belts, locks, rubber vibration control parts, global positioning systems, capacitors, thermometers, plugs, filters, windshield wipers, bumpers, tubing, air-conditioner components, flow meters, springs, fans/blowers, lug nuts, rubber hoses, CD/radios/audio systems, horns, relays, switches, ignition wires, and electrical apparatus (duty rate range: free—5.3%). The application indicates that TMMI's domestic sourcing will increase in the future.

FTZ procedures would exempt TMMI from Customs duty payments on the foreign components used in export production (1% of shipments). On its domestic sales and exports to NAFTA countries, TMMI would be able to choose the duty rate that applies to finished passenger vehicles (2.5%) for the foreign inputs noted above that have higher rates. Foreign status and certain domestic status parts and materials would be exempt from local inventory taxes. Customs duties would be deferred and possibly reduced on foreign status production equipment. The application indicates that subzone status would help improve the plant's international competitiveness.

In accordance with the Board's regulations, a member of the FTZ Staff has been designated examiner to investigate the application and report to the Board.

Public comment on the application is invited from interested parties. Submissions (original and three copies) shall be addressed to the Board's Executive Secretary at the address below. The closing period for their receipt is August 6, 2001. Rebuttal comments in response to material submitted during the foregoing period may be submitted during the subsequent 15-day period August 20, 2001.

A copy of the application and the accompanying exhibits will be available for public inspection at each of the following locations:

Office of the Port Director, U.S. Customs Service, Room 238, 101 NW Martin Luther King Blvd., Evansville, IN 47708

Office of the Executive Secretary, Foreign-Trade Zones Board, U.S. Department of Commerce, Room 4008, 14th Street & Constitution Avenue, NW, Washington, DC 20230-0002

Dated: May 25, 2001.
Dennis Puccinelli,
Executive Secretary.

[FR Doc. 01-14136 Filed 6-5-01; 8:45 am]

BILLING CODE 3510-DS-P